DEPARTMENT OF HOMELAND SECURITY

U.S. Customs and Border Protection

Accreditation and Approval of SGS North America, Inc., as a Commercial Gauger and Laboratory

AGENCY: U.S. Customs and Border Protection, Department of Homeland Security.

ACTION: Notice of accreditation and approval of SGS North America, Inc., as a commercial gauger and laboratory.

SUMMARY: Notice is hereby given, pursuant to CBP regulations, that SGS North America, Inc., has been approved to gauge and accredited to test petroleum and petroleum products, organic chemicals and vegetable oils for customs purposes for the next three years as of January 14, 2017.

DATES: The accreditation and approval of SGS North America, Inc., as commercial gauger and laboratory became effective on January 18, 2017. The next triennial inspection date will be scheduled for January 2020.

FOR FURTHER INFORMATION CONTACT: Mr. Stephen Cassata, Laboratories and Scientific Services, U.S. Customs and Border Protection, 1300 Pennsylvania Avenue NW., Suite 1500N, Washington, DC 20229, tel. (202) 344-1060.

SUPPLEMENTARY INFORMATION: Notice is hereby given pursuant to 19 CFR 151.12 and 19 CFR 151.13, that SGS North America, Inc., 4575 Jerry Ware Drive, Beaumont, TX 77705, has been approved to gauge and accredited to test petroleum and petroleum products for customs purposes, in accordance with the provisions of 19 CFR 151.12 and 19 CFR 151.13. SGS North America, Inc., is approved for the following gauging procedures for petroleum and certain petroleum products set forth by the American Petroleum Institute (API):

API chapters | Title
3 | Tank gauging.
7 | Temperature Determination.
8 | Sampling.
12 | Calculations.
17 | Maritime Measurements.

SGS North America, Inc., is accredited for the following laboratory analysis procedures and methods for petroleum and certain petroleum products set forth by the U.S. Customs and Border Protection Laboratory Methods (CBPL) and American Society for Testing and Materials (ASTM):

CBPL No. | ASTM | Title
27-01 | ASTM D-287 | Standard test method for API Gravity of crude petroleum products and petroleum products (Hydrometer Method).
27-03 | ASTM D-4006 | Standard test method for water in crude oil by distillation.
27-04 | ASTM D-95 | Standard test method for water in petroleum products and bituminous materials by distillation.
27-05 | ASTM D-4928 | Standard Test Method for Water in crude oils by Coulometric Karl Fischer Titration.
27-06 | ASTM D-473 | Standard test method for sediment in crude oils and fuel oils by the extraction method.
27-11 | ASTM D-445 | Standard test method for kinematic viscosity of transparent and opaque liquids (and calculations of dynamic viscosity).
27-13 | ASTM D-4294 | Standard test method for sulfur in petroleum and petroleum products by energy-dispersive x-ray fluorescence spectrometry.
27-14 | ASTM D-2622 | Standard Test Method for Sulfur in Petroleum Products (X-Ray Spectrographic Methods).
27-48 | ASTM D-4052 | Standard test method for density and relative density of liquids by digital density meter.
27-50 | ASTM D-93 | Standard test methods for flash point by Penske-Martens Closed Cup Tester.
27-54 | ASTM D-1796 | Standard test method for water and sediment in fuel oils by the centrifuge method (Laboratory procedure).

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to cbp.labhq@dhs.gov. Please reference the Web site listed below for a complete listing of CBP approved gaugers and accredited laboratories: http://www.cbp.gov/about/labs-scientific/commercial-gaugers-and-laboratories.

Dated: June 13, 2017.
Ira S. Reese,
Executive Director, Laboratories and Scientific Services.

[FR Doc. 2017-13022 Filed 6-21-17; 8:45 am]

BILLING CODE 9111-14-P